DEPARTMENT OF THE INTERIOR

Fish and Wildlife Service

[FWS-HQ-MB-2012-N227; FXMB1231099BPP0L2-112-FF09M21200]

Information Collection Request Sent to the Office of Management and Budget (OMB) for Approval; Control and Management of Resident Canada Geese

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on November 30, 2012. We may not conduct or sponsor and a person is not required to respond to a collection of information unless it displays a currently valid OMB control number. However, under OMB regulations, we may continue to conduct or sponsor this information collection while it is pending at OMB.

DATES: You must submit comments on or before November 2, 2012.

ADDRESSES: Send your comments and suggestions on this information collection to the Desk Officer for the Department of the Interior at OMB-OIRA at (202) 395-5806 (fax) or OIRA_DOCKET@OMB.eop.gov (email). Please provide a copy of your comments to the Service Information Collection Clearance Officer, U.S. Fish and Wildlife Service, MS 2042-PDM, 4401 North Fairfax Drive, Arlington, VA 22203 (mail), or INFOCOL@fws.gov (email). Please include “1018-0133” in the subject line of your comments.

FOR FURTHER INFORMATION CONTACT: To request additional information about this ICR, contact Hope Grey at INFOCOL@fws.gov (email) or 703-358-2482 (telephone). You may review the ICR online at http://www.reginfo.gov. Follow the instructions to review Department of the Interior collections under review by OMB.

SUPPLEMENTARY INFORMATION:

OMB Control Number: 1018-0133.

Title: Control and Management of Resident Canada Geese, 50 CFR 20.21, 21.49, 21.50, 21.51, 21.52, and 21.61.

Service Form Number: None.

Type of Request: Extension of a currently approved collection.

Description of Respondents: State fish and wildlife agencies, tribes, and local governments; airports; landowners; and farms.

Respondent's Obligation: Required to obtain or retain a benefit.

Frequency of Collection: Annually.

Activity | Number of respondents | Number of responses | Completion time per response | Total annual burden hours *
21.49—Airport Control Order—Annual Report | 50 | 50 | 1.5 hours | 76
21.50—Nest and Egg Depredation Order—Initial Registration | 1,000 | 1,000 | 30 minutes | 500
21.50—Nest and Egg Depredation Order—Renew Registration | 3,000 | 3,000 | 15 minutes | 751
21.50—Nest and Egg Depredation Order—Annual Report | 4,000 | 4,000 | 15 minutes | 1,000
21.51—Agricultural Depredation Order—Recordkeeping | 600 | 600 | 30 minutes | 300
21.51—Agricultural Depredation Order—Annual Report | 20 | 20 | 8 hours | 160
21.52—Public Health Control Order—Annual Report | 20 | 20 | 1 hour | 20
21.49, 21.50, 21.51, and 21.52—Report Take of Endangered Species | 2 | 2 | 15 minutes | 1
21.61—Population Control Approval Request—Recordkeeping and Annual Report | 8 | 8 | 24 hours | 192
21.61—Population Control Approval Request—Population Estimates | 8 | 8 | 160 hours | 1,280
Totals | 8,708 | 8,708 |  | 4,280
* rounded.

Abstract: The Migratory Bird Treaty Act prohibits the take, possession, import, export, transport, sale, purchase, or bartering of migratory birds or their parts except as permitted under the terms of a valid permit or as permitted by regulations. In 2006, we issued regulations establishing two depredation orders and three control orders that allow State and tribal wildlife agencies, private landowners, and airports to conduct resident Canada goose population management, including the take of birds. We monitor the data collected for activities under these orders and may rescind an order if monitoring indicates that activities are inconsistent with conservation of Canada geese.

Control order for airports. 50 CFR 21.49 allows managers at commercial, public, and private airports and military airfields and their employees or agents to implement management of resident Canada geese to resolve or prevent threats to public safety. An airport must be part of the National Plan of Integrated Airport Systems and have received Federal grant-in-aid assistance or be a military airfield under the jurisdiction, custody, or control of the Secretary of a military department. Each facility exercising the privileges of the order must submit an annual report with the date, numbers, and locations of birds, nests, and eggs taken.

Depredation order for nests and eggs. 50 CFR 21.50 allows private landowners and managers of public lands to destroy resident Canada goose nests and eggs on property under their jurisdiction provided they register annually on our Web site at https://epermits.fws.gov/eRCGR. Registrants must provide basic information, such as name, address, phone number and email, and identify where the control work will occur and who will conduct it. Registrants must return to the Web site to report the number of nests with eggs they destroyed.

Depredation order for agricultural facilities. 50 CFR 21.51 allows States and tribes, via their wildlife agency, to implement a program to allow landowners, operators, and tenants actively engaged in commercial agriculture to conduct damage management control when geese are committing depredations or to resolve or prevent other injury to agricultural interests. State and tribal wildlife agencies in the Atlantic, Central, and Mississippi Flyway portions of 41 States can implement the provisions of the order. Agricultural producers must maintain a log of the date and number of birds taken under this authorization. States and tribes exercising the privileges of the order must submit an annual report of the numbers of birds, nests, and eggs taken and the county where take occurred.

Public health control order. 50 CFR 21.52 authorizes States and tribes of the lower 48 States to conduct (via the State or tribal wildlife agency) resident Canada goose control and management activities when the geese pose a direct threat to human health. States and tribes operating under this order must submit an annual report summarizing activities, including the numbers of birds taken and the county where take occurred.

Population control. 50 CFR 21.61 establishes a managed take program to reduce and stabilize resident Canada goose populations when traditional and otherwise authorized management measures are not successful or feasible. A State or tribal wildlife agency in the Atlantic, Mississippi, or Central Flyway may request approval for this population control program. If approved, the State or tribe may use hunters to harvest resident Canada geese during the month of August. Requests for approval must include a discussion of the State's or tribe's efforts to address its injurious situations using other methods or a discussion of the reasons why the methods are not feasible. If the Service Director approves a request, the State or tribe must (1) keep annual records of activities carried out under the authority of the program, and (2) provide an annual summary, including number of individuals participating in the program and the number of resident Canada geese shot. Additionally, participating States and tribes must monitor the spring breeding population by providing an annual estimate of the breeding population and distribution of resident Canada geese in their State.

Regulations at 50 CFR 21.49, 21.50, 21.51, and 21.52 require that persons or entities operating under the depredation and control orders must immediately report the take of any species protected under the Endangered Species Act (ESA) (21.49(d)(1)). This information ensures that the incidental take limits authorized under Section 7 of the ESA are not exceeded.

Comments: On May 2, 2012, we published in the Federal Register (77 FR 26032) a notice of our intent to request that OMB renew approval for this information collection. In that notice, we solicited comments for 60 days, ending on July 2, 2012. We received one comment from the Wyoming Game and Fish Department (Wyoming) in response to that notice.

Wyoming generally supported the information collection to document and monitor control and management activities for resident Canada geese. However, it did not support the level of detail that we request in the annual reports, stating that it puts an unnecessary burden on respondents and has no practical utility. Although Wyoming does not indicate which of the depredation orders it is referring to, only the control order for resident Canada geese at agricultural facilities (21.51), the public health control order (21.52), and the population control approval request (21.61) involve State agencies. To date, the State of Wyoming has not operated under any of these orders.

The control order for agricultural facilities allows State wildlife agencies and tribes to authorize landowners, operators, and tenants actively engaged in commercial agriculture to conduct direct damage management actions. These entities must maintain records of the date and number of geese and eggs taken and provide it to their agency upon request. The State or tribal agency must provide us with an annual summary of the number of geese, nests, and eggs destroyed broken down by month so we can monitor the overall take of resident Canada geese and the continued use and effectiveness of the regulation.

The public health control order may be implemented by State and tribal wildlife agencies. The State or tribal agency must provide us with an annual summary of the number of geese, nests, and eggs destroyed broken down by county. Very few geese are taken under this order.

The population control order allows States and tribes to designate participants to act as their agents under this order. The State or tribe must keep records of the following information and provide an annual summary to us: (1) The number of individuals participating in the program; (2) the number of days individuals participated in the program; (3) the total number of resident Canada geese shot and retrieved; and (4) the number shot but not retrieved.

Overall, we agree that the most important information the Service and States need to monitor these populations is the number of geese, nests, and eggs destroyed and the population status. However, the general time and location of any geese taken under the various depredation and control orders provides valuable insight and ongoing review of the regulations' continued effectiveness, or lack thereof. For example, we would expect that over time the numbers of geese taken with the various orders should trend downward, especially in locations where they are continually implemented. Further, the information helps us determine whether the existing regulations should be revised or expanded due to changing conditions, population status, or new conflicts. We would readily consider any potential changes in the existing regulations if information warranted such changes and have made minor revisions and clarifications to the regulations since their promulgation.

Lastly, Wyoming commented that our 60-day Federal Register notice should have stated that State agencies may require State permits in order for (1) airports to operate under the control order for resident Canada geese at airports and military airfields (21.49), and (2) landowners to take nests and eggs under the nest and egg depredation order (21.50). Although we do not state this in the Federal Register notice for this information collection, that point is made clear in the regulations for these orders.

We did not make any changes to our information collection requirements based on the above comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 26, 2012.
Tina A. Campbell,
Chief, Division of Policy and Directives Management, U.S. Fish and Wildlife Service.

[FR Doc. 2012-24398 Filed 10-2-12; 8:45 am]

BILLING CODE 4310-55-P